DEPARTMENT OF TRANSPORTATION

Federal Highway Administration

Environmental Impact Statement: Hamilton County, OH and Kenton County, KY

AGENCY: Federal Highway Administration (FHWA), DOT.

ACTION: Notice of Intent.

SUMMARY: The FHWA is issuing this notice to advise the public that an Environmental Impact Statement (EIS) will be prepared for a proposed highway project in Hamilton County, Ohio and Kenton County, Kentucky. This Notice of Intent is a follow-up to a notice published in the Federal Register on June 1, 2000 which advised the public that a Major Investment Study for the I-75 Corridor (completed in 2004) served as the formal scoping process for the preparation of one or more Environmental Assessments or EISs.

FOR FURTHER INFORMATION CONTACT: Mark L. Vonder Embse, Senior Transportation Engineer, Federal Highway Administration, 200 North High Street, Room 328, Columbus, Ohio 43215, Telephone: (614) 280-6854.

SUPPLEMENTARY INFORMATION: The FHWA, in cooperation with the Ohio Department of Transportation (ODOT) and the Kentucky Transportation Cabinet (KYTC), will prepare an EIS for proposed improvements to I-75/I-71 and connecting routes in the vicinity of the existing Ohio River crossing (Brent Spence Bridge) and the Cities of Cincinnati, Ohio and Covington, Kentucky. The project termini are approximately the Kyles Lane Interchange in Covington to the Western Hills Viaduct Interchange in Cincinnati. The study area is approximately 6.5 miles in length.

The purpose and need of the project are to improve traffic flow and level of service, improve safety, correct geometric deficiencies, and maintain links in key mobility, trade, and national defense transportation corridors. Alternatives under consideration include: (1) Taking no action; and (2) rehabilitation/upgrading of the existing infrastructure combined with construction of new facilities on new alignment; (3) replacement infrastructure on new alignment; and (4) other alternatives that may be developed during the NEPA process. FHWA, ODOT, KYTC, and local agencies will be invited to participate in defining the alternatives to be evaluated in the EIS, and any significant social, economic, or environmental issues related to the alternatives.

Letters describing the proposed action and soliciting comments will be sent to appropriate Federal, State, and local agencies, and to private organizations and citizens who have previously expressed or are known to have interest in this proposal. Comments received previously will be considered during the EIS process. A series of public meetings will be held in the project area. In addition, a public hearing will be held. Public notice will be given of the time and place of the meetings and hearing. The draft EIS will be available for public and agency review and comment prior to the public hearing.

To ensure that the full range of issues relating to this proposed action are addressed, and all significant issues identified, comments and suggestions are invited from all interested parties. Comments or questions concerning this proposed action and the EIS should be sent to the FHWA at the address provided above.

(Catalog of Federal Domestic Assistance Program Number 20.205, Highway Planning and Construction. The regulations implementing Executive Order 12372 regarding intergovernmental consultation on Federal programs and activities apply to this program.)

Issued On: June 27, 2006.
Victoria Peters,
Engineering & Operations Office Director, Federal Highway Administration, Columbus, Ohio.

[FR Doc. E6-11519 Filed 7-19-06; 8:45 am]

BILLING CODE 4910-22-P